NATIONAL SCIENCE FOUNDATION

Business and Operations Advisory Committee; Notice of Meeting

In accordance with Federal Advisory Committee Act (Pub. L. 92-463, as amended), the National Science Foundation announces the following meeting:

Name: Business and Operations Advisory Committee (9556).

Date/Time: December 2, 2003; 2 p.m. to 4 p.m. (e.s.t.)

Place: National Science Foundation, 4201 Wilson Boulevard, Room 525-II, Arlington, VA.

Type of Meeting: Open—Teleconference. Please contact Joan Miller (below) for a dial-in number.

Contact Person: Joan Miller, National Science Foundation, 4201 Wilson Boulevard, Arlington, VA 22230; (703) 292-8200.

Purpose of Meeting: To provide advice concerning issues related to the oversight, integrity, development and enhancement of NSF's business operations.

Agenda: December 2, 2003. Discussion of NSF's Business Analysis study.

Dated: November 5, 2003.
Susanne Bolton,
Committee Management Officer.

[FR Doc. 03-28223 Filed 11-7-03; 8:45 am]

BILLING CODE 7555-01-M